NATIONAL AERONAUTICS AND SPACE ADMINSTRATION

[Notice 05-034]

NASA Solar System Exploration Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Solar System Exploration Strategic Roadmap Committee.

DATES: Monday, March 21, 2005, 8 a.m. to 5 p.m., Tuesday, March 22, 2005, 8 a.m. to 5 p.m., Mountain Standard Time.

ADDRESSES: Hilton Tucson El Conquistador, 10000 North Oracle Road, Tucson, AZ 85737.

FOR FURTHER INFORMATION CONTACT: Dr. Carl Pilcher 202-358-0291.

SUPPLEMENTARY INFORMATION: The meeting will be open to the public up to the seating capacity of the meeting room. Attendees will be requested to sign a register.

The agenda for the meeting is as follows:

—Review Pathways and define by goals and decision points.

—Develop draft Roadmap text from Pathways.

—Determine the relationships of the Solar System Roadmap to Moon and Mars Roadmaps.

—Generate a preliminary set of affordability indicators that will allow refinement during integration.

It is imperative that the meeting be held on this date to accommodate the scheduling priorities of the key participants.

Michael F. O'Brien,
Assistant Administrator for External Relations, National Aeronautics and Space Administration.

[FR Doc. 05-4329 Filed 3-4-05; 8:45 am]

BILLING CODE 7510-13-P